DEPARTMENT OF THE INTERIOR

Bureau of Land Management

[UT-LLUT11000-08-L14300000-FR0000-241A.00; UTU-76680]

Recreation and Public Purposes Act Classification; Utah

AGENCY: Bureau of Land Management, Interior.

ACTION: Notice of Realty Action.

SUMMARY: The Bureau of Land Management (BLM) has determined that certain public lands located in Kane County, Utah, are suitable for classification for conveyance to the Western Kane County Special Services District under the authority of the Recreation and Public Purposes (R&PP) Act, June 14, 1926, as amended (43 U.S.C. 869).

DATES: Comments regarding the proposed conveyance must be received by the BLM on or before December 15, 2008. Only written comments will be accepted.

ADDRESSES: Detailed information concerning this action, including but not limited to documentation related to compliance with applicable environmental and cultural resource laws, is available for review at the BLM Kanab Field Office. Address all written comments concerning this notice to Harry Barber, Kanab Field Office Manager, 318 North 100 East, Kanab, Utah 84741. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Hugh Wolfe, Realty Specialist, BLM Kanab Field Office, (435) 644-4608, Hugh_Wolfe@blm.gov.

SUPPLEMENTARY INFORMATION: The following described public land in Kane County, Utah, has been examined and found suitable for conveyance to the Western Kane County Special Services District under the provisions of the R&PP Act, as amended:

Salt Lake Meridian, Utah

T. 40 S., R. 7 W.,

Sec. 26, S½NE¼SW¼SW¼SW¼, S½SW¼SW¼SW¼;

Sec. 35, NW¼NE¼NW¼, NE¼NW¼NW¼.

The area described above contains approximately 26.25 acres in Kane County, Utah.

In 1989, Western Kane County Special Services District received a patent from the BLM for 10 acres of land for the purpose of developing a landfill in the western portion of Kane County. This landfill was subsequently developed and serves as the repository for solid waste in this area. Since that time, there has been tremendous growth in the area (mainly from development of and visitation to Cedar Mountain and surrounding areas) resulting in increased pressure and use of the existing landfill. This increased pressure and use is causing the original 10-acre landfill site to be used up much more rapidly than previously anticipated. With the explosive population growth in the Las Vegas, Nevada and St. George, Utah areas (where much of the Cedar Mountain development and visitation comes from), the need for additional solid waste disposal will only increase as well. The landfill site would serve important public objectives, including efficient and orderly disposal of solid waste with a minimum solid waste transportation distance for the majority of Long Valley and Cedar Mountain residents.

The proposed conveyance is consistent with the BLM Zion Management Framework Plan approved April 22, 1981, and amended March 10, 1998 (MFP). This 1998 Land Tenure Adjustment Amendment allows the BLM to consider land tenure adjustments (including R&PP leases/patents) if the action meets one or more criteria. One of these criteria was that the action “is in the public interest and accommodates the needs of state, local, or private entities, including needs for the economy, community growth and expansion and [is] in accordance with other land use goals and objectives and MFP planning decisions.” This action is consistent with the goals, objectives, and decisions of the Zion MFP, and would not conflict with other decisions throughout the plan. The proposed action is therefore in conformance with the Zion MFP and would serve important public objectives which cannot be achieved prudently or feasibly elsewhere.

The land contains no other known public values. The subject parcel has not been identified for transfer to the State or any other local government or nonprofit organization.

The patent, when issued, will be subject to the following terms, conditions, and reservations:

1. Provisions of the Recreation and Public Purposes Act and all applicable regulations of the Secretary of the Interior. In particular, statutory provisions governing the conveyance of new disposal sites are to be found at 43 U.S.C. 869-2(b), regulatory provisions at 43 CFR 2743.2 and 2343.2-1.

2. A right of way for ditches or canals constructed by the authority of the United States, Act of August 30, 1890 (43 U.S.C. 945).

3. All valid existing rights.

4. The United States will reserve all minerals together with the right to prospect for, mine, and remove the minerals under applicable laws and such regulations as the Secretary of the Interior may prescribe, including all necessary access and exit rights.

5. These parcels are subject to the requirements of section 120(h) of the Comprehensive Environmental Response, Compensation and Liabilities Act, 42 U.S.C. 9620(h) (CERCLA), as amended by the Superfund Amendments and Reauthorization Act of 1988, Sat. 1670. Federal Register/Vol. 72, No. 134/Friday, July 13, 2007/Notices.

6. The patentee, its successors or assigns, by accepting a patent, agrees to indemnify, defend, and hold harmless the United States, its officers, agents, representatives, and employees (hereinafter “United States”) from any costs, damages, claims, causes of action in connection with the patentee's use, occupancy, or operations on the patented real property. This agreement includes, but is not limited to, acts or omissions of the patentee and its employees, agents, contractors, lessees, or any third party arising out of, or in connection with, the patentee's use, occupancy, or operations on the patented real property which cause or give rise to, in whole or in part: (1) Violations of Federal, State, and local laws and regulations that are now, or may in the future become, applicable to the real property and/or applicable to the use, occupancy, and/or operations thereon; (2) judgments, claims, or demands of any kind assessed against the United States; (3) costs, expenses, or damages of any kind incurred by the United States; (4) releases or threatened releases of solid or hazardous waste(s) and/or hazardous substances(s), pollutant(s), or contaminants(s), and/or petroleum product(s) or derivative(s) of a petroleum product, as defined by Federal or State environmental laws; of, on, into, or under land, property, and other interests of the United States; (5) other activities by which solid or hazardous substance(s) or waste(s), pollutant(s) or contaminant(s), or petroleum product(s) or derivative(s) of a petroleum product as defined by Federal or State environmental laws are generated, stored, used, or otherwise disposed of on the patented real property, and any cleanup response, remedial action, or other actions related in any manner to the said solid or hazardous substance(s) or waste(s) or contaminant(s), or petroleum product(s) or derivative(s) of a petroleum product as defined by Federal or State laws. Patentee shall stipulate that it will be solely responsible for compliance with all applicable Federal, State, and local environmental laws and regulatory provisions, throughout the life of the facility, including any closure and/or post-closure requirements that may be imposed with respect to any physical plant and or facility upon the real property under any Federal, State, or local environmental laws or regulatory provisions. In the case of a patent being issued, this covenant shall be construed as running with the patented real property and may be enforced by the United States in a court of competent jurisdiction.

Additional detailed information concerning this Notice of Realty Action, including environmental records, is available for review at the BLM Kanab Field Office, at the above address. Office hours are 7:45 a.m. to 4:30 p.m., Monday through Friday except holidays.

Upon publication of this notice in the Federal Register, the land described above will be segregated from appropriation under the public land laws, including the mining laws, except for conveyance under the R&PP Act.

Classification Comments: You may submit comments regarding the proposed classification or conveyance of the land to the BLM Kanab Field Office Manager at the address stated above. You may submit comments involving the suitability of the lands for a sanitary landfill site. Comments on the classification are restricted to the following four subjects:

(1) Whether the land is physically suited for the proposal;

(2) Whether the use will maximize the future use or uses of the land;

(3) Whether the use is consistent with local planning and zoning; and

(4) If the use is consistent with State and Federal programs.

Application Comments: You may submit comments regarding the specific use proposed in the Service District's application; and whether the BLM followed proper administrative procedures in reaching the decision. Comments received during this process, including respondent's name, address, and other contact information will be available for public review.

The State Director will review any adverse comments. In the event the public does not submit adverse comments, the classification will become 60 days from the date of publication in the Federal Register. The land will not be offered for conveyance until after the classification becomes effective.

(Authority: 43 CFR Subpart 2741.)

Dated: October 23, 2008.
Jeff Rawson,
Actg. State Director.

[FR Doc. E8-25782 Filed 10-28-08; 8:45 am]

BILLING CODE 4310-DQ-P